Title 3—

The President

Presidential Determination No. 2000-10 of January 31, 2000

Determination Pursuant to Section 523 of the Foreign

Operations, Export Financing, and Related Programs Appropriations Act, 2000, as Contained in the Consolidated Appropriations Act for FY 2000 (Public Law 106-113)

Memorandum for the Secretary of State

Pursuant to section 523 of the Foreign Operations, Export Financing, and Related Programs Appropriations Act, 2000, as Contained in the Consolidated Appropriations Act for FY 2000 (Public Law 106-113), I hereby certify that withholding from international financial institutions and other international organizations and programs funds appropriated or otherwise made available pursuant to that Act is contrary to the national interest.

You are authorized and directed to publish this determination in the Federal Register.

wj

THE WHITE HOUSE,

Washington, January 31, 2000.

[FR Doc. 00-2684

Filed 2-3-00; 8:45 am]

Billing code 4710-10-M